DEPARTMENT OF THE TREASURY

Community Development Financial Institutions Fund

Agency Information Collection Activities; Proposed Collection: Comment Request; Extension of Comment Period; Annual Certification and Data Collection Report Form (ACR) and the Certification Transaction Level Report (CTLR)

ACTION: Notice; extension of comment period.

SUMMARY: The Community Development Financial Institutions Fund (CDFI Fund), U.S. Department of the Treasury, is extending the public comment period concerning the Annual Certification and Data Collection Report Form (ACR) and the Certification Transaction Level Report (CTLR). The original Federal Register document announcing the comment period was published on May 7, 2020. With this extension, the comment period ends on November 5, 2020.

DATES: The public comment period began on May 7, 2020 (85 FR 27274) and is being extended to November 5, 2020. Written comments must be received on or before November 5, 2020.

ADDRESSES: Submit your comments via email to Greg Bischak, Financial Strategies and Research (FS&R) Program Manager, CDFI Fund, at: CDFI-FinancialStrategiesandResearch@cdfi.treas.gov.

FOR FURTHER INFORMATION CONTACT: Greg Bischak, Financial Strategies and Research (FS&R) Program Manager, CDFI Fund, U.S. Department of the Treasury, 1500 Pennsylvania Avenue NW, Washington, DC 20220 or by phone at (202) 653-0300. Other information regarding the CDFI Fund and its programs may be obtained through the CDFI Fund's website at http://www.cdfifund.gov.

SUPPLEMENTARY INFORMATION: Title: Annual Certification and Data Collection Report Form and the Certification Transaction Level Report.

OMB Number: 1559-0046.

The Notice and Request for Public Comment for the Annual Certification and Data Collection Report Form (ACR) and the Certification Transaction Level Report (CTLR) was published in the Federal Register on May 7, 2020. The Notice provided a 90-day comment period that was set to close on August 5, 2020. In light of the challenges posed by the COVID-19 pandemic, and to ensure that stakeholders have the time they need to provide comments, the CDFI Fund determined that an extension of the comment period to November 5, 2020 is appropriate. The comment period will now close on November 5, 2020.

(Authority: Pub. L. 104-13; 12 CFR 1805; 12 CFR 1806; 12 CFR 1807; 12 CFR 1808)

Jodie L. Harris,
Director, Community Development Financial Institutions Fund.

[FR Doc. 2020-16195 Filed 7-24-20; 8:45 am]

BILLING CODE 4810-70-P